DEPARTMENT OF HOMELAND SECURITY

Federal Emergency Management Agency

44 CFR Part 67

[Docket ID FEMA-2011-0002; Internal Agency Docket No. FEMA-B-1190]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 8, 2011.

ADDRESSES: The corresponding preliminary Flood Insurance Rate Map (FIRM) for the proposed BFEs for each community is available for inspection at the community's map repository. The respective addresses are listed in the table below.

You may submit comments, identified by Docket No. FEMA-B-1190, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Greene County, Pennsylvania (All Jurisdictions)
Dunkard Creek | Approximately 400 feet downstream of the downstream county boundary | None | +950 | Township of Wayne.
| Approximately 100 feet upstream of the upstream county boundary | None | +951
Purman Run | Approximately 0.55 mile upstream of North East Street | None | +963 | Township of Franklin.
| Approximately 0.56 mile upstream of North East Street | None | +965
Pursley Creek (backwater effects from South Fork Tenmile Creek) | At the South Fork Tenmile Creek confluence | None | +960 | Township of Center.
| Approximately 0.34 mile upstream of the South Fork Tenmile Creek confluence | None | +960
South Fork Tenmile Creek | Approximately 1,061 feet upstream of Center Street | None | +789 | Township of Center, Township of Morgan.
| Approximately 0.64 mile upstream of Oak Forest Road | None | +968
Tenmile Creek | Approximately 1,581 feet upstream of Center Street | None | +786 | Township of Morgan.
| Approximately 1.55 miles upstream of Center Street | None | +804
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Center
Maps are available for inspection at the Center Township Supervisors Building, 100 Municipal Drive, Rogersville, PA 15359.
Township of Franklin
Maps are available for inspection at the Franklin Township Municipal Building, 568 Rolling Meadows Road, Waynesburg, PA 15370.
Township of Morgan
Maps are available for inspection at the Morgan Township Municipal Building, 1019 3rd Street, Extension, Mather, PA 15346.
Township of Wayne
Maps are available for inspection at the Wayne Township Municipal Building, 132 Spraggs Road, Spraggs, PA 15362.
Marion County, West Virginia, and Incorporated Areas
Bingamon Creek | At the West Fork River confluence | +901 | +902 | Unincorporated Areas of Marion County.
| At the Harrison County boundary | None | +902
Booths Creek | Approximately 40 feet upstream of the West Fork River confluence | None | +886 | Town of Monongah, Unincorporated Areas of Marion County.
| At the Harrison/Taylor County boundary | None | +959
Tevebaugh Creek (backwater effects from West Fork River) | From approximately 400 feet upstream of the West Fork River confluence to approximately 1,300 feet upstream of the West Fork River confluence | None | +897 | Town of Worthington.
* National Geodetic Vertical Datum.
+ North American Vertical Datum. #Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Monongah
Maps are available for inspection at the Town Hall, 430 Bridge Street, Monongah, WV 26554.
Town of Worthington Maps are available for inspection at the Town Hall, 247 Main Street, Worthington, WV 26591.
Unincorporated Areas of Marion County:
Maps are available for inspection at the Marion County City Building, 200 Jackson Street, Fairmont, WV 26554.

(Catalog of Federal Domestic Assistance No. 97.022, “Flood Insurance.”)

Dated: April 15, 2011.
Sandra K. Knight,
Deputy Federal Insurance and Mitigation Administrator, Mitigation, Department of Homeland Security, Federal Emergency Management Agency.

[FR Doc. 2011-11418 Filed 5-9-11; 8:45 am]

BILLING CODE 9110-12-P